DEPARTMENT OF DEFENSE

Office of the Secretary

[Transmittal Nos. 13-39]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-39 with attached transmittal and policy justification.

Dated: July 12, 2013.
Aaron Siegel,
Alternate OSD Federal Register Liaison Officer, Department of Defense.

BILLING CODE 5001-06-P

BILLING CODE 5001-06-C

Transmittal No. 13-39

Notice of Proposed Issuance of Letter of Offer Pursuant to Section 36(b)(1) of the Arms Export Control Act, as Amended

(i) Prospective Purchaser: Government of Greece

(ii) Total Estimated Value:

Major Defense Equipment* | $0 million
Other | $250 million
TOTAL | $250 million
* As defined in Section 47(6) of the Arms Export Control Act.

(iii) Description and Quantity or Quantities of Articles or Services under Consideration for Purchase: Spare parts and services for F100-PW-229 engines for Hellenic Air Force F-16 aircraft, to include: Inlet/Fan Modules, Core Engine Modules, Rear Compressor Drive Turbines, Fan Drive Turbine Modules, Augmentor Duct and Nozzle Modules, and Gearbox Modules. In addition, the proposed sale will include support equipment, publications and technical documentation, U.S. Government and contractor technical, engineering, logistics support services, and other related elements of program support.

(iv) Military Department: Air Force (QCG).

(v) Prior Related Cases, if any: None.

(vi) Sales Commission, Fee, etc., Paid, Offered, or Agreed to be Paid: None.

(vii) Sensitivity of Technology Contained in the Defense Article or Defense Services Proposed to be Sold: None.

(viii) Date Report Delivered to Congress: 11 July 2013.

POLICY JUSTIFICATION

Greece—Spare Parts and Services for F100-PW-229 Engines

The Government of Greece has requested the purchase of spare parts and services for F100-PW-229 engines for the Hellenic Air Force F-16 aircraft, to include: Inlet/Fan Modules, Core Engine Modules, Rear Compressor Drive Turbines, Fan Drive Turbine Modules, Augmentor Duct and Nozzle Modules, and Gearbox Modules. In addition, the proposed sale will include support equipment, publications and technical documentation, U.S. Government and contractor technical, engineering, and logistics support services, and other related elements of program support. The estimated cost is $250 million.

This proposed sale will contribute to the foreign policy and national security of the United States by helping to improve the security of a NATO ally.

The uninterrupted supply of spare parts and support will ensure the Hellenic Air Force sustains its aircraft fleet at the highest state of readiness to face any potential threats.

The proposed sale of this equipment and support will not alter the basic military balance in the region.

The proposed sale will not be for one sole source contract for this sale. There are no known offset agreements proposed in connection with this potential sale.

Implementation of this proposed sale will not require the assignment of any additional U.S. Government or contractor representatives to Greece.

There will be no adverse impact on U.S. defense readiness as a result of this proposed sale.

[FR Doc. 2013-17154 Filed 7-16-13; 8:45 am]

BILLING CODE 5001-06-P